DEPARTMENT OF TRANSPORTATION

Federal Aviation Administration

14 CFR Part 39

[Docket No. FAA-2010-1276; Directorate Identifier 2010-NM-092-AD]

RIN 2120-AA64

Airworthiness Directives; Airbus Model A310 Series Airplanes

AGENCY: Federal Aviation Administration (FAA), DOT.

ACTION: Notice of proposed rulemaking (NPRM).

SUMMARY: We propose to adopt a new airworthiness directive (AD) for the products listed above that would supersede two existing ADs. This proposed AD results from mandatory continuing airworthiness information (MCAI) originated by an aviation authority of another country to identify and correct an unsafe condition on an aviation product. The MCAI describes the unsafe condition as:

DGAC [Direction Générale de l'Aviation Civile] France AD 1992-106-132(B) * * * has been issued in order to mandate a set of inspections/modifications which address JAR/FAR [Joint Aviation Regulation/Federal Aviation Regulation] 25-571 requirements related to damage-tolerance and fatigue evaluation of structure.

* * * * *

The unsafe condition is reduced structural integrity of the wings, fuselage, and stabilizers. The proposed AD would require actions that are intended to address the unsafe condition described in the MCAI.

DATES: We must receive comments on this proposed AD by February 17, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS-EAW (Airworthiness Office), 1 Rond Point Maurice Bellonte, 31707 Blagnac Cedex, France; telephone +33 5 61 93 36 96; fax +33 5 61 93 44 51; e-mail account.airworth-eas@airbus.com; Internet http://www.airbus.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2010-1276; Directorate Identifier 2010-NM-092-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On December 8, 1998, we issued AD 98-26-01, Amendment 39-10942 (63 FR 69179, December 16, 1998); and on May 30, 1991, we issued AD 91-13-01, Amendment 39-7032 (56 FR 26602, June 10, 1991). Those ADs required actions intended to address an unsafe condition on the products listed above.

Since we issued ADs 98-26-01 and 91-13-01, we have determined that certain compliance times need to be reduced in order to adequately address the identified unsafe condition. The European Aviation Safety Agency (EASA), which is the Technical Agent for the Member States of the European Community, has issued EASA Airworthiness Directive 2007-0053R3, dated December 17, 2009 (referred to after this as “the MCAI”), to correct an unsafe condition for the specified products. The MCAI states:

DGAC [Direction Générale de l'Aviation Civile] France AD 1992-106-132(B) original issue up to revision 7 has been issued in order to mandate a set of inspections/modifications which address JAR/FAR [Joint Aviation Regulation/Federal Aviation Regulation] 25-571 requirements related to damage-tolerance and fatigue evaluation of structure [FAA AD 98-26-01 corresponds to DGAC AD 1992-106-132(B)R4, dated June 5, 1996].

Following the Extended Design Service Goal activities part of the Structure Task Group for the A310 program, EASA AD 2007-0053 superseded DGAC France AD F-1992-106-132R7 in order to take into account the publication of Airbus Service Bulletins (SB) A310-55-2004 at Revision 5 and Airbus SB A310-53-2074 at Revision 3, whose inspection thresholds and/or intervals had been reduced.

Revision 1 of this AD was issued to remove the mandatory requirements related to the wings (i.e. § 1.8, 1.9, 1.10, 1.13, and 1.18) from the Compliance section, which have been transferred to EASA AD 2007-0242.

Revision 2 of this AD has been issued to remove the mandatory requirements of paragraph 1.15, 1.16 and 1.17 which have now been transferred to EASA AD 2009-0057 (§ 1.15 and 1.17) and 2009-0058 (§ 1.16) respectively.

Revision 3 of this AD is issued to add a Note to the Applicability and amend the Required Action(s) and Compliance Time(s) section of this AD to clarify the allowed use of the referenced SBs by operators. In addition, a note has been added to paragraph 1.7 and the notes associated to paragraphs 1.1, 1.2, 1.3, 1.4, 1.5 and 1.12 have been clarified.

The unsafe condition is reduced structural integrity of the wings, fuselage, and stabilizers. This NPRM proposes to continue to require certain actions specified in AD 98-26-01. This proposed AD also expands the inspection area of the high frequency eddy current rototest inspection required by paragraph (g) of AD 98-26-01. The required actions are as follows, depending on airplane configuration:

• A defectoscope or rototest inspection to detect cracks in the area of frame 47 and frame 54, install new doublers, and repair if necessary.

• Repetitive visual inspections to detect cracks on frame 46 between the left- and right-hand sides of stringers 21 and 22 on the forward and aft faces, and repair if necessary.

• Repetitive visual inspections to detect cracks at the T-section connecting frame 50A to the beam between the left- and right-hand sides of frames 50 and 51, and modification if necessary.

• Repetitive visual inspections to detect cracks in the lower milled side panel at the lap joint with the upper side panel at frame 47 and stringer 22, left- and right-hand sides, and repair if necessary.

• An eddy current inspection to detect cracks on the upper integral part adjacent to the rear attach fittings on the horizontal stabilizer, modification of the horizontal stabilizer, and repair if necessary.

• Repetitive high frequency eddy current rototest inspections for cracking of the doubler plate edge, rear spar area, and at specified fastener holes in the top skin chordwise splice along the contour of the steel doubler between ribs 3 and 4 on the left- and right-hand center and side boxes on the horizontal stabilizer, installing new fasteners if no cracking is found, and repair if necessary.

• Repetitive inspections, either an eddy current or visual inspection, to detect cracks on the left and right vertical posts, numbers 1 through 5 inclusive, in the wing center box at frame 40/41, and modification if necessary.

You may obtain further information by examining the MCAI in the AD docket.

Other Relevant Rulemaking

Certain paragraphs specified in AD 98-26-01 are not restated and are addressed by the following ADs and NPRMs.

• AD 2009-01-09, Amendment 39-15788 (74 FR 8728, February 26, 2009), addresses the actions specified in paragraph (a) of AD 98-26-01.

• AD 2004-15-07, Amendment 39-13741 (69 FR 44592, July 27, 2004), addresses the actions specified in paragraph (k) of AD 98-26-01.

• AD 2006-09-05, Amendment 39-14575 (71 FR 25921, May 3, 2006), addresses the actions specified in paragraph (o) of AD 98-26-01.

• NPRM, Directorate Identifier 2010-NM-091-AD, addresses the actions specified in paragraphs (h), (i), (j), (m), (n), and (s) of AD 98-26-01.

• NPRM, Directorate Identifier 2010-NM-090-AD, addresses the action specified in paragraphs (p) and (r) of AD 98-26-01.

• NPRM, Directorate Identifier 2010-NM-089-AD, addresses the action specified in paragraph (q) of AD 98-26-01.

Relevant Service Information

Airbus has issued Mandatory Service Bulletin A310-55-2004, Revision 05, including Appendix 01, dated October 13, 2006; and Airbus Service Bulletin A310-53-2019, Revision 3, dated February 28, 1991. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 44 products of U.S. registry.

The actions that are required by AD 98-26-01 and retained in this proposed AD take about 1,087 work-hours per product, at an average labor rate of $85 per work hour. Required parts cost about $81,973 per product. Based on these figures, the estimated cost of the currently required actions is $174,368 per product.

We estimate that it would take about 3 work-hours per product to comply with the new basic requirements of this proposed AD. The average labor rate is $85 per work-hour. Based on these figures, we estimate the cost of the proposed AD on U.S. operators to be $11,220, or $255 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-10942 (63 FR 69179, December 16, 1998) and Amendment 39-7032 (56 FR 26602, June 10, 1991) and adding the following new AD:

Airbus: Docket No. FAA-2010-1276; Directorate Identifier 2010-NM-092-AD.

Comments Due Date

(a) We must receive comments by February 17, 2011.

Affected ADs

(b) This AD supersedes AD 98-26-01, Amendment 39-10942, and AD 91-13-01, Amendment 39-7032.

Applicability

(c) This AD applies to Airbus Model A310-203, -204, -221, -222, -304, -322, -324, and -325 airplanes, certificated in any category, all certified models, all serial numbers.

Subject

(d) Air Transport Association (ATA) of America Codes 53: Fuselage, 55: Stabilizers, and 57: Wings.

Reason

(e) The mandatory continuing airworthiness information (MCAI) states:

DGAC [Direction Générale de l'Aviation Civile] France AD 1992-106-132(B) original issue up to revision 7 has been issued in order to mandate a set of inspections/modifications which address JAR/FAR [Joint Aviation Regulation/Federal Aviation Regulation] 25-571 requirements related to damage-tolerance and fatigue evaluation of structure.

* * * * *

The unsafe condition is reduced structural integrity of the wings, fuselage, and stabilizers.

Compliance

(f) You are responsible for having the actions required by this AD performed within the compliance times specified, unless the actions have already been done.

Restatement of Certain Requirements of AD 98-26-01

Actions for Service Bulletin A310-53-2016—No Changes

(g) For airplanes listed in Airbus Service Bulletin A310-53-2016, Revision 5, dated December 7, 1992: Prior to the accumulation of 12,000 total flight cycles, or within 1,000 flight cycles after January 20, 1999 (the effective date of AD 98-26-01), whichever occurs later, perform a defectoscope or rototest inspection to detect cracks in the area of frame 47 and frame 54, and install new doublers, in accordance with Airbus Service Bulletin A310-53-2016, Revision 5, dated December 7, 1992. Except as provided by paragraph (m) of this AD, if any discrepancy is found, prior to further flight, perform follow-on corrective actions, as applicable, in accordance with Airbus Service Bulletin A310-53-2016, Revision 5, dated December 7, 1992.

Note 1: Airplanes on which Airbus Modification 04980 is done in production are not affected by paragraph (g) of this AD.

Actions for Service Bulletin A310-53-2054, With Latest Optional Modification

(h) For airplanes listed in Airbus Service Bulletin A310-53-2054, Revision 2, dated May 22, 1990: Prior to the accumulation of 12,000 total flight cycles, or within 1,000 flight cycles after January 20, 1999, whichever occurs later, and thereafter at intervals not to exceed 3,000 flight cycles, perform a visual inspection to detect cracks on frame 46 between the left- and right-hand sides of stringers 21 and 22 on the forward and aft faces, in accordance with Airbus Service Bulletin A310-53-2054, Revision 2, dated May 22, 1990. If any crack is found, prior to further flight, repair in accordance with Airbus Service Bulletin A310-53-2054, Revision 2, dated May 22, 1990.

Note 2: Airplanes on which Airbus modification 05254 is done in production; or on which Airbus Service Bulletin A310-53-2019, Revision 2, dated May 22, 1990, or Revision 3, dated February 28, 1991, is done in service; are not affected by paragraph (h) of this AD.

(1) Prior to the effective date of this AD: Accomplishment of the repair required by paragraph (h) of this AD; or modification of the reinforcement angle runout in accordance with Airbus Service Bulletin A310-53-2019, Revision 2, dated May 22, 1990, or Revision 3, dated February 28, 1991; terminates the repetitive inspection requirements of paragraph (h) of this AD.

(2) On or after the effective date of this AD: Accomplishment of the repair required by paragraph (h) of this AD; or modification of the reinforcement angle runout in accordance with Airbus Service Bulletin A310-53-2019, Revision 3, dated February 28, 1991; terminates the repetitive inspection requirements of paragraph (h) of this AD.

Actions for Service Bulletin A310-53-2057—No Changes

(i) For airplanes listed in Airbus Service Bulletin A310-53-2057, Revision 1, dated April 30, 1992: Perform a visual inspection to detect cracks at the T-section connecting frame 50A to the beam between the left- and right-hand sides of frames 50 and 51, in accordance with Airbus Service Bulletin A310-53-2057, Revision 1, dated April 30, 1992. Perform the inspection at the time specified in paragraph (i)(1) or (i)(2) of this AD, as applicable. If any crack is found, prior to further flight, accomplish Airbus Modifications No. 4853 and No. 5273, in accordance with Airbus Service Bulletin A310-53-2057, Revision 1, dated April 30, 1992. Accomplishment of these modifications terminates the requirements of this paragraph.

Note 3: Airplanes on which Airbus modification 4853 is done are affected by paragraph (i) of this AD, except those airplanes on which Airbus Modification 5273 has been done or on which Airbus Service Bulletin A310-53-2011 has been done in service.

(1) For the airplane having manufacturer's serial number (MSN) 191: Prior to the accumulation of 24,000 total flight cycles, or within 1,000 flight cycles after January 20, 1999, whichever occurs later; and thereafter at intervals not to exceed 6,000 flight cycles.

(2) For airplanes other than the airplane identified in paragraph (i)(1) of this AD: Prior to the accumulation of 12,000 total flight cycles, or within 1,000 flight cycles after January 20, 1999, whichever occurs later; and thereafter at intervals not to exceed 6,000 flight cycles.

Actions for Service Bulletin A310-53-2059—No Changes

(j) For airplanes listed in Airbus Service Bulletin A310-53-2059, Revision 1, dated January 4, 1996: Perform a visual inspection to detect cracks in the lower milled side panel at the lap joint with the upper side panel at frame 47 and stringer 22, left- and right-hand sides, in accordance with Airbus Service Bulletin A310-53-2059, Revision 1, dated January 4, 1996. Perform the inspection at the time specified in paragraph (j)(1) or (j)(2) of this AD, as applicable. Except as provided by paragraph (m) of this AD, if any crack is found, prior to further flight, repair in accordance with Airbus Service Bulletin A310-53-2059, Revision 1, dated January 4, 1996. Thereafter, repeat the inspections at intervals not to exceed 9,000 flight cycles, or accomplish Airbus Modification 5997 (Airbus Service Bulletin A310-53-2058). Accomplishment of either the repair or Airbus Modification 5997 constitutes terminating action for the repetitive inspections required by this paragraph.

Note 4: Airplanes on which Airbus Modification 5997 has been done completely in production, or on which Airbus Service Bulletin A310-53-2058 has been done in service, are not affected by the actions in paragraph (j) of this AD.

(1) For Model A310-200 series airplanes, accomplish the inspection at the time specified in paragraph (j)(1)(i) or (j)(1)(ii) of this AD, as applicable.

(i) For airplanes that have accumulated less than 20,000 total flight cycles as of January 20, 1999: Prior to the accumulation of 18,000 total flight cycles, or within 2,000 flight cycles after January 20, 1999, whichever occurs later.

(ii) For airplanes that have accumulated 20,000 or more total flight cycles as of January 20, 1999: Within 1,000 flight cycles after January 20, 1999.

(2) For Model A310-300 series airplanes, accomplish the inspection at the time specified in paragraph (j)(2)(i) or (j)(2)(ii) of this AD, as applicable.

(i) For airplanes that have accumulated less than 19,700 total flight cycles as of January 20, 1999: Prior to the accumulation of 18,000 total flight cycles, or within 1,700 flight cycles after January 20, 1999, whichever occurs later.

(ii) For airplanes that have accumulated 19,700 or more total flight cycles as of January 20, 1999: Within 850 flight cycles after January 20, 1999.

Actions for Service Bulletin A310-55-2002—No Changes

(k) For airplanes listed in Airbus Service Bulletin A310-55-2002, Revision 4, dated April 28, 1989: Prior to the accumulation of 12,000 total flight cycles, or within 1,000 flight cycles after January 20, 1999, whichever occurs later, perform an eddy current inspection to detect cracks on the upper integral part adjacent to the rear attach fittings on the horizontal stabilizer, and modify the horizontal stabilizer, in accordance with Airbus Service Bulletin A310-55-2002, Revision 4, dated April 28, 1989. Except as provided by paragraph (m) of this AD, if any discrepancy is found, prior to further flight, perform follow-on corrective actions, as applicable, in accordance with Airbus Service Bulletin A310-55-2002, Revision 4, dated April 28, 1989.

Actions for Service Bulletin A310-57-2039—No Changes

(l) For airplanes listed in Airbus Service Bulletin A310-57-2039, dated September 24, 1990: Perform either an eddy current or visual inspection to detect cracks on the left and right vertical posts, numbers 1 through 5 inclusive, in the wing center box at frame 40/41, in accordance with Airbus Service Bulletin A310-57-2039, dated September 24, 1990. Perform the inspection at the time specified in paragraph (l)(1) or (l)(2) of this AD, as applicable. Except as provided by paragraph (m) of this AD, if any crack is found, prior to further flight, accomplish the modification specified in Airbus Service Bulletin A310-57-2041, dated September 24, 1990, in accordance with Airbus Service Bulletin A310-57-2039, dated September 24, 1990.

Note 5: Airplanes on which Airbus Modification 04977 has been done in production are not affected by the actions specified in paragraph (l) of this AD.

(1) For airplanes on which Airbus Modification 7541/S7973 (reference Airbus Service Bulletin A310-57-2041) has not been accomplished: Inspect prior to the accumulation of 21,000 total flight cycles, or within 1,000 flight cycles after January 20, 1999, whichever occurs later; and thereafter at intervals not to exceed 4,200 flight cycles (for a visual inspection), or 7,500 flight cycles (for an eddy current inspection).

(2) For airplanes on which Airbus Modification 7541/S7973 (reference Airbus Service Bulletin A310-57-2041) has been accomplished: Inspect at the time specified in the graph contained in NOTE 1 of paragraph 1.A.(2) of Airbus Service Bulletin A310-57-2039, dated September 24, 1990, or within 1,000 flight cycles after January 20, 1999, whichever occurs later; and thereafter at intervals not to exceed 5,000 flight cycles (for a visual inspection), or 8,600 flight cycles (for an eddy current inspection).

Exception to Certain Service Bulletin Repairs

(m) If any crack is found during any inspection required by paragraph (g), (j), (k), or (l) of this AD, and the applicable service bulletin specifies to contact Airbus for an appropriate action: Prior to further flight, repair in accordance with a method approved by either the Manager, International Branch, ANM-116, or the DGAC (or its delegated agent), or EASA (or its delegated agent).

New Requirements of This AD: Actions

Actions for Service Bulletin A310-55-2004

(n) For airplanes listed in Airbus Mandatory Service Bulletin A310-55-2004, Revision 05, dated October 13, 2006: At the applicable time specified in paragraph (n)(1) or (n)(2) of this AD, do a high frequency eddy current inspection for cracking of the doubler plate edge, the rear spar area, and specified fastener holes in the top skin chordwise splice along the contour of the steel doubler between ribs 3 and 4 on the left- and right-hand center and side boxes on the horizontal stabilizer, in accordance with the Accomplishment Instructions of Airbus Mandatory Service Bulletin A310-55-2004, Revision 05, dated October 13, 2006. If any cracking is found, before further flight, repair in accordance with the Accomplishment Instructions of Airbus Mandatory Service Bulletin A310-55-2004, Revision 05, dated October 13, 2006; except where this service bulletin specifies to contact Airbus, before further flight, repair in accordance with a method approved by either the Manager, International Branch, ANM-116, FAA, or EASA (or its delegated agent). Thereafter, repeat the inspections at intervals not to exceed 9,700 flight cycles or 19,500 flight hours, whichever occurs first; except as required by paragraph (o) of this AD for the rear spar area.

Note 6: Airplanes on which Airbus Modification 06070 has been done in production are not affected by the actions specified in paragraph (l) of this AD.

(1) For airplanes on which Airbus Service Bulletin A310-55-2002 was accomplished prior to the accumulation of 6,000 total flight cycles on the airplane; and for airplanes having MSN 311 through 400 inclusive on which Airbus Modification 4933 was accomplished during production: Do the inspection at the later of the compliance times specified in paragraphs (l)(1)(i) and (l)(1)(ii) of this AD.

(i) Prior to the accumulation of 14,400 total flight cycles or 28,500 total flight hours, whichever occurs first.

(ii) Within 1,500 flight cycles or 18 months after the effective date of this AD, whichever occurs first.

(2) For airplanes on which Airbus Service Bulletin A310-55-2002 was accomplished on or after the accumulation of 6,000 total flight cycles: Do the inspection at the later of the times specified in paragraphs (l)(2)(i) and (l)(2)(ii) of this AD.

(i) Within 9,700 flight cycles or 19,500 flight hours after accomplishing the modification, whichever occurs first.

(ii) Within 1,500 flight cycles or 18 months after the effective date of this AD, whichever occurs first.

(o) For airplanes on which the initial inspection required by paragraph (n) of this AD has been done and on which a repair was installed at fastener position A in accordance with Airbus Service Bulletin A310-55-2002: At the later of the times specified in paragraphs (o)(1) and (o)(2) of this AD, do a high frequency eddy current inspection for cracking of the rear spar area as specified in paragraph (n) of this AD, and repeat the high frequency eddy current inspection of the rear spar area thereafter at intervals not to exceed 4,800 flight cycles or 9,700 flight hours, whichever occurs first.

(1) Within 4,800 flight cycles or 9,700 flight hours, whichever occurs first, after doing the repair in accordance with Airbus Service Bulletin A310-55-2002.

(2) Within 400 flight cycles or 800 flight hours, whichever occurs first, after the effective date of this AD.

Credit for Actions Accomplished in Accordance With Previous Service Information

(p) Actions accomplished before the effective date of this AD in accordance with Airbus Service Bulletin A310-55-2004, Revision 2, dated February 7, 1991; Revision 3, dated April 16, 1997; and Revision 04, dated April 17, 2001; are acceptable for compliance with the corresponding actions specified in paragraph (n) of this AD.

FAA AD Differences

Note 7: This AD differs from the MCAI and/or service information as follows: No Differences.

Other FAA AD Provisions

(q) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD. AMOCs approved previously in accordance with AD 98-26-01, amendment 39-10942, are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(r) Refer to MCAI EASA Airworthiness Directive 2007-0053R3, dated December 17, 2009, and the service bulletins listed in Table 1 of this AD, for related information.

Table 1—Related Service Information
Service bulletin | Revision | Date
Airbus Mandatory Service Bulletin A310-55-2004 | 05 | October 13, 2006.
Airbus Service Bulletin A310-53-2016 | 5 | December 7, 1992.
Airbus Service Bulletin A310-53-2019 | 3 | February 28, 1991.
Airbus Service Bulletin A310-53-2054 | 2 | May 22, 1990.
Airbus Service Bulletin A310-53-2057 | 1 | April 30, 1992.
Airbus Service Bulletin A310-53-2059 | 1 | January 4, 1996.
Airbus Service Bulletin A310-55-2002 | 4 | April 28, 1989.
Airbus Service Bulletin A310-57-2039 | Original | September 24, 1990.
Airbus Service Bulletin A310-57-2041 | Original | September 24, 1990.

Issued in Renton, Washington on December 17, 2010.
Ali Bahrami,
Manager, Transport Airplane Directorate, Aircraft Certification Service.

[FR Doc. 2010-32983 Filed 12-30-10; 8:45 am]

BILLING CODE 4910-13-P